NUCLEAR REGULATORY COMMISSION

[Docket No. 50-336]

Northeast Nuclear Energy Company, et al.; Millstone Nuclear Power Station, Unit No. 2; Notice of Withdrawal of Application for Amendment to Facility Operating License

The U.S. Nuclear Regulatory Commission (the Commission) has granted the request of Northeast Nuclear Energy Company, et al. (NNECO) to withdraw its November 13, 1998, application, as supplemented by letter dated September 16, 1999, for proposed amendment to Facility Operating License No. DPR-65 for the Millstone Nuclear Power Station, Unit 2, located in New London County, Connecticut.

The proposed amendment would have authorized the licensee to revise the Final Safety Analysis Report by changing the High Pressure Safety Injection pump runout flowrate, Auxiliary Feedwater pump flowrate, the iodine partition factor for the air ejector, inclusion of the potential of flashing of the primary-to-secondary leakage, and a change in the atmospheric release point assumed following the actuation of the Enclosure Building Filtration Actuation Signal.

The Commission had previously issued a Notice of Consideration of Issuance of Amendment published in the Federal Register on January 27, 1999 (64 FR 4158). However, by letter dated January 25, 2000, NNECO withdrew the proposed change request.

For further details with respect to this action, see the application for amendment dated November 13, 1998, as supplemented by letter dated September 16, 1999, and NNECO's letter dated January 25, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 14th day of February 2000.
For the Nuclear Regulatory Commission.
Jacob I. Zimmerman,
Project Manager, Section 2, Project Directorate I, Division of Licensing Project Management, Office of Nuclear Reactor Regulation.

[FR Doc. 00-3894 Filed 2-17-00; 8:45 am]

BILLING CODE 7590-01-P